SURFACE TRANSPORTATION BOARD

[Docket No. EP 290 (Sub-No. 4)]

Railroad Cost Recovery Procedures—Productivity Adjustment

AGENCY: Surface Transportation Board.

ACTION: Presentation of the Board's calculation for the change in railroad productivity for the 2018-2022 averaging period.

SUMMARY: In a decision served on January 19, 2024, the Board proposed to adopt 1.011 (1.1% per year) as the measure of average (geometric mean) change in railroad productivity for the 2018-2022 (five-year) period. The Board's January 19, 2024 decision stated that comments may be filed addressing any perceived data and computational errors in the Board's calculation. The decision also stated that, unless a further order is issued postponing the effective date, the decision will take effect on March 1, 2024.

DATES: Comments are due by February 5, 2024.

ADDRESSES: Comments may be filed via e-filing on the Board's website at www.stb.gov. Comments must be served on all parties appearing on the service list.

FOR FURTHER INFORMATION CONTACT: Pedro Ramirez at (202) 245-0333. If you require accommodation under the Americans with Disabilities Act, please call (202) 245-0245.

SUPPLEMENTARY INFORMATION: Additional information is contained in the Board's decision, which is available at www.stb.gov under Docket No. EP 290 (Sub-No. 4).

Decided: January 18, 2024.
By the Board, Board Members Fuchs, Hedlund, Oberman, Primus, and Schultz.
Kenyatta Clay,
Clearance Clerk.

[FR Doc. 2024-01303 Filed 1-23-24; 8:45 am]

BILLING CODE 4915-01-P